DEPARTMENT OF ENERGY

Federal Energy Regulatory Commission

[Project No. 14792-000]

Maysville Pumped Storage, LLC; Notice of Preliminary Permit Application Accepted for Filing and Soliciting Comments, Motions To Intervene, and Competing Applications

On July 1, 2016, Maysville Pumped Storage, LLC filed an application for a preliminary permit, pursuant to section 4(f) of the Federal Power Act (FPA), proposing to study the feasibility of a hydropower project located on the Ohio River in Mason County, Kentucky. The sole purpose of a preliminary permit, if issued, is to grant the permit holder priority to file a license application during the permit term. A preliminary permit does not authorize the permit holder to perform any land-disturbing activities or otherwise enter upon lands or waters owned by others without the owners' express permission.

The proposed project would be developed in three phases. In the final phase the following project would consist of: (1) A 15-foot-high, 40-foot-long concrete intake structure on the Ohio River; (2) two 10-foot-diameter, 1,050-foot-long steel pipes to supply water to the project; (3) a 135-foot-high, 500-foot-long earth fill or roller-compacted, concrete embankment dam surrounding; (4) an upper reservoir with a surface area of 20 acres and a storage capacity of 875 acre-feet; (5) five 12.5-foot to 18 foot-diameter, 2,800-foot-long penstocks; (6) a powerhouse 100-feet-below the lower reservoir containing five pump/generating units with a total capacity of 500 megawatts; (7) a lower reservoir established within an existing underground mine space with a surface area of 212 acres and a storage capacity of 9,540 acre-feet; and (8) a 10,500-foot-long, 230 kilo-volt transmission line to a point of interconnection with the PJM system. The project would have an estimated average annual generation of 1,296,480 megawatt-hours.

Applicant Contact: Mr. Matthew Shapiro, Gridflex Energy, LLC, 1210 W. Franklin St., Ste. 2, Boise ID 83702. (208) 246-9925.

FERC Contact: Chris Casey, christiane.casey@ferc.gov, (202) 502-8577.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14792-000.

More information about this project, including a copy of the application, can be viewed or printed on the “eLibrary” link of Commission's Web site at http://www.ferc.gov/docs-filing/elibrary.asp. Enter the docket number (P-14792) in the docket number field to access the document. For assistance, contact FERC Online Support.

Dated: May 9, 2017.
Kimberly D. Bose,
Secretary.

[FR Doc. 2017-09800 Filed 5-15-17; 8:45 am]

BILLING CODE 6717-01-P